DEPARTMENT OF LABOR

Office of Disability Employment Policy

Agency Information Collection Activities; Comment Request; Research To Support the Partnership on Inclusive Apprenticeship

ACTION: Notice of information collections and request for comments.

SUMMARY: In compliance with the Paperwork Reduction Act of 1995, the Department of Labor (DOL) is soliciting public comments regarding this ODEP-sponsored information collection to the Office of Management and Budget (OMB) for review and approval.

DATES: Comments pertaining to this information collection are due on or before August 3, 2021.

ADDRESSES:

Electronic submission: You may submit comments and attachments electronically at http://www.regulations.gov. Follow the online instructions for submitting comments.

Mail submission: 200 Constitution Ave. NW, Room S-5315, Washington, DC 20210.

Comments are invited on: (1) Whether the collection of information is necessary for the proper performance of the functions of the DOL, including whether the information will have practical utility; (2) if the information will be processed and used in a timely manner; (3) the accuracy of the DOL's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Meredith DeDona by telephone at 202-693-7864 (this is not a toll-free number) or by email at DeDona.Meredith@dol.gov.

SUPPLEMENTARY INFORMATION: The Partnership on Inclusive Apprenticeship (PIA) focuses on engagement and outreach strategies to promote and implement inclusive practices within apprenticeship programs, such as those registered with the U.S. Department of Labor's (DOL) Office of Apprenticeship. These strategies aim to enable individuals with disabilities, including working-age youth and adults ages 16-64, to gain credentials and skills to succeed in growing industries. PIA also seeks to glean federal and state policy options through such outreach and engagement, which includes several stakeholder engagement and outreach activities. The Office of Disability Employment Policy (ODEP) of the U.S. Department of Labor (DOL) intends to design and conduct a process evaluation of the DOL-funded PIA. The goal of this four-year study is to build an understanding of the experiences, barriers, and successes of PIA during the implementation of the partnership.

The overall study is comprised of several components: (1) A knowledge development phase to understand what is currently known about inclusive apprenticeship programs, review the literature on inclusive apprenticeship, and analyze existing data on inclusive apprenticeship; (2) technical assistance to PIA and its partners to understand and enhance their use of data for process improvement; and (3) a process evaluation of the implementation of PIA.

This Federal Register Notice provides the opportunity to comment on three proposed data collection instruments that will be used in the evaluations:

1. Survey of PIA Apprenticeship Intermediary Organizations (AIOs), partners, and community of practice members. Survey of up to 90 AIOs, partner organizations, and community of practice members to collect information on their role in PIA and their experiences with inclusive apprenticeship programs.

2. Topic guide for site visit interviews with AIO program staff and partners. Virtual semi-structured interviews with up to 12 program and partner staff for each of the approximately 6 AIOs partnering under PIA, beginning fall 2021.

3. Focus group guide for apprentices. Virtual semi-structured focus groups with up to 60 apprentices enrolled in inclusive apprenticeship programs, assuming that all ten invited apprentices at approximately 6 AIOs partnering under PIA agree to participate, beginning fall 2022.

This information collection is subject to the Paperwork Reduction Act (PRA). A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

The DOL seeks PRA authorization for this information collection for three (3) years. OMB authorization for an Information Collection Review cannot be for more than three (3) years without renewal. The DOL notes that currently approved information collection requirements submitted to the OMB receive a month-to-month extension while they undergo review.

Agency: DOL-ODEP.

Type of Review: New information collection.

Title of Collection: Research to Support the Partnership on Inclusive Apprenticeship.

OMB Control Number: 1230-0NEW.

Affected Public: Individuals or Households.

Total Estimated Number of Respondents: 74.

Frequency: Once.

Total Estimated Number of Responses: 74.

Total Estimated Annual Time Burden: 59 hours.

Total Estimated Annual Other Costs Burden: $0.

Estimated Annual Burden Hours
Type of instrument (form/activity) | Number of respondents | Number of responses per respondent | Total number of responses | Average burden time per response (hours) | Estimated burden hours
AIO, PIA partner, and community of practice member survey | 30 | 1 | 30 | 0.5 | 15
AIO program staff and partner interview topic guide | 24 | 1 | 24 | 1.0 | 24
Apprentice focus group guide | 20 | 1 | 20 | 1.0 | 20
Total | 74 |  | 74 |  | 59

Authority: 44 U.S.C. 3506(c)(2)(A).

Dated: May 27, 2021.
Jennifer Sheehy,
Deputy Assistant Secretary, Office of Disability Employment Policy, U.S. Department of Labor.

[FR Doc. 2021-11745 Filed 6-3-21; 8:45 am]

BILLING CODE 4510-FK-P